DEPARTMENT OF TRANSPORTATION

Federal Aviation Administration

Fifth Meeting: RTCA Special Committee 223: Airport Surface Wireless Communications

AGENCY: Federal Aviation Administration (FAA), Department of Transportation (DOT).

ACTION: Notice of RTCA Special Committee 223: Airport Surface Wireless Communications meeting.

SUMMARY: The FAA is issuing this notice to advise the public of a meeting of RTCA Special Committee 223: Airport Surface Wireless Communications.

DATES: The meeting will be held August 17-18, 2010 from 9 a.m.-5 p.m.

ADDRESSES: The meeting will be held at the NASA Glenn Research Center, 21000 Brookpark Road, Cleveland, OH 44135, Host: Jim Budinger—(Office) 216-443-3496: (Mobile) 440-289-0424, james.m.budinger@nasa.gov.

Notes

• Please confirm attendance via SC-223 Workspace link by COB Friday 13 August 2010. If you receive an Outlook Meeting Invitation, please reply to that as well. The list of acceptances will be used to generate the Official NASA Visitors Request Form for preparation of badges. Your access to the meeting location will be delayed significantly if your visit is not pre-authorized.

• If you would like to attend but are not a U.S. citizen and have not already provided your personal information to NASA, please contact Jim Budinger.

• Please See SC-223 Workspace for lodging options and detailed directions around the NASA main gate during construction.

• Please allow up to 20 minutes for badging and driving to the meeting locations on both days. No escort will be needed for U.S. citizens.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 223: Airport Surface Wireless Communications meeting. The agenda will include:

Tuesday, August 17, 2010—Building 54 Room 101

• 0900 a.m.—Opening Plenary.

• Welcome, Introductions, Administrative Remarks, Approve/Review Meeting #4 Summary, RTCA Paper No. 099-10/SC223-009).

• Welcome from NASA Glenn Research Center Management: Dr. Gary Seng.

• Special Committee Leadership.

• Designated Federal Official (DFO): Mr. Brent Phillips.

• Co-Chair: Mr. Aloke Roy, Honeywell International.

• Co-Chair: Mr. Ward Hall, ITT Corporation.

• 0915 a.m.—Agenda Overview.

• Fill out lunch orders.

• 0930 a.m.—AeroMACS Profile Working Group Status (Mr. Art Ahrens).

• 0940 a.m.—AeroMACS User Services & Applications Ad-Hoc Working Group Status (Mr. Chris Wargo).

• 0950 a.m.—4th Plenary meeting action item status.

• 1010 a.m.—Break.

• 1020 a.m.—Status of AeroMACS planning within FAA—Mr. Brent Phillips.

• 1030 a.m.—EUROCONTROL/EUROCAE WG-82 status and inputs—Mr. Luc Lommaert.

• 1100 a.m.—NASA GRC C-band interference modeling and simulation results—Dr. Jeffrey Wilson.

• 1115 a.m.—Ohio University grant findings and recommendations—Dr. David Matolak.

• 1135 a.m.—Proposed additional topics.

• Lunch 1200 p.m.—(brought in to B54-R101).

Profiles WG Breakout Session

• 1230 p.m.—Technical work on AeroMACS Profile (Mr. Art Ahrens).

• 1300 p.m.—WiMAX Forum perspective and guidance (Mr. Edward Agis, Certification Working Group Chair, WiMAX Forum).

User Services & Applications (USAS) Breakout Session

• 1330 p.m.—User services and applications definition (Mr. Chris Wargo).

• 1700 p.m.—Adjourn.

Wednesday, August 18, 2010—(Note: Different Location)

AeroMACS Testing and Demonstrations—Building 110 Room 313

• Fill out lunch orders.

• 0900 a.m.—Overview of AeroMACS test and evaluation results summary—Mr. Ward Hall.

• 0930 a.m.—Selected AeroMACS fixed and mobile services presentations/demonstrations.

• Lunch 1230 p.m. (brought in to Building 54-Room 101).

Reconvene Plenary—Building 54 Room 101

• 1300 p.m.—Profiles WG Status Report and Plenary Guidance.

• 1330 p.m.—USAS WG Status Report and Plenary Guidance.

• 1400 p.m.—Establish Agenda for joint plenary meeting in Brussels Belgium 28-30 September 2010.

• 1410 p.m.—Establish Agenda for joint plenary meeting for AeroMACS MOPS in Washington DC.

• 1420 p.m.—Review of Meeting summary report.

• 1500 p.m.—Adjourn.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on July 21, 2010.
Francisco Estrada C.,
RTCA Advisory Committee.

[FR Doc. 2010-18477 Filed 7-27-10; 8:45 am]

BILLING CODE 4910-13-P